DEPARTMENT OF DEFENSE

Office of the Secretary

Charter Amendment of the President to the Board of Advisors to the Presidents of the Naval Postgraduate School and the Naval War College

AGENCY: Department of Defense.

ACTION: Amendment of Federal Advisory Committee.

SUMMARY: The Department of Defense (DoD) is publishing this notice to announce that it is amending the charter for the Board of Advisors to the Presidents of the Naval Postgraduate School and the Naval War College (“the Board”).

FOR FURTHER INFORMATION CONTACT: Jim Freeman, Advisory Committee Management Officer for the Department of Defense, 703-692-5952.

SUPPLEMENTARY INFORMATION: The Board's charter is being amended in accordance with the Federal Advisory Committee Act (FACA) (5 U.S.C. Appendix) and 41 CFR 102-3.50(d). The DoD is amending the Board's current charter, which was previously announced in the Federal Register on June 1, 2018 (83 FR 25442), to change the name to the “Education for Seapower Advisory Board” and to increase the number of annual meetings for the Board from one to two. The Advisory Board, the Naval Postgraduate School Subcommittee and the Naval War College Subcommittee are otherwise unchanged.

Individual members of the Board, including its two subcommittees, shall be appointed according to DoD policy and procedures to serve a term of service of one-to-four years with annual renewals. Leadership appointments for the Board and its subcommittees shall be selected from among previously approved members of the Board or subcommittee, in question, for a one-to-two year term of service, with annual renewal, which shall not exceed the individual's Board or subcommittee appointment, as appropriate.

Members of the Board and its subcommittees who are not full-time or permanent part-time Federal officers or employees, or members of the Armed Forces, will be appointed as experts or consultants pursuant to 5 U.S.C. 3109 to serve as special government employee members. Board members who are full-time or permanent part-time Federal officers or employees, or members of the Armed Forces, will be appointed pursuant to 41 CFR 102-3.130(a) to serve as regular government employee members.

All members of the Board and its subcommittees are appointed to provide advice on the basis of his or her best judgment without representing any particular point of view and in a manner that is free from conflict of interest. Except for reimbursement of official Board-related travel and per diem, members serve without compensation.

The public or interested organizations may submit written statements to the Board's membership about its mission and functions. Written statements may be submitted at any time or in response to the stated agenda of planned meeting of the Board. All written statements should be submitted to the Board's Designated Federal Officer (DFO), who will ensure that the written statements are provided to the membership for consideration.

The Board's charter and contact information for the DFO can be found at https://www.facadatabase.gov/FACA/apex/FACAPublicAgencyNavigation.

Dated: September 25, 2019.
Aaron T. Siegel,
Alternate OSD Federal Register Liaison Officer, Department of Defense.

[FR Doc. 2019-21203 Filed 9-30-19; 8:45 am]

BILLING CODE 5001-06-P